DEPARTMENT OF COMMERCE

Office of the Secretary

Proposed Information Collection; Comment Request; The Pledge to America's Workers Award

AGENCY: Office of the Secretary, Commerce.

ACTION: Notice.

SUMMARY: The Department of Commerce, as part of its continuing effort to reduce paperwork and respondent burden and as required by the Paperwork Reduction Act of 1995, invites comments on a new information collection for the Pledge to America's Workers Presidential Award program. The purpose of this notice is to allow for 60 days of public comment.

DATES: To ensure consideration, written or online comments must be submitted on or before June 1, 2020.

ADDRESSES: Direct all written comments to Kelly Welsh, Program Manager, National Institute of Standards and Technology, Mail Stop 1020, 100 Bureau Drive, Gaithersburg, MD 20889-1710, (or via email at WorkforcePledgeAward@nist.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Kelly Welsh, Program Manager, 100 Bureau Drive, Stop 1020, Gaithersburg, MD 20899, 301-975-4307, WorkforcePledgeAward@nist.gov.

SUPPLEMENTARY INFORMATION:

I. Abstract

President Trump has outlined key workforce policy priorities through two Executive Orders. In June 2017, he signed the Presidential Executive Order 13801 Expanding Apprenticeships in America to “provide more affordable pathways to secure, high paying jobs by promoting apprenticeships and effective workforce development programs.” In July 2018, he signed the Executive Order 13845 Establishing the President's National Council for the American Worker as amended by Executive Order 13853 (83 FR 35099 as amended by 83 FR 65073), “to work with private employers, educational institutions, labor unions, other non-profit organizations, and State, territorial, tribal, and local governments to update and reshape our education and job training landscape so that it better meets the needs of American students, workers, and businesses.” The National Council is creating a national workforce strategy in accordance with the Trump Administration's workforce policy priorities and achievements.

In July 2018, President Trump also launched the Pledge to America's Workers, through which companies and trade groups commit to expanding programs that educate, train, and reskill American workers from high-school age to near-retirement. As of March 2020, more than 430 companies, trade associations, and unions have signed the Pledge, contributing to over 15.8 million new education and training opportunities for American students and workers over the next five years.

The Department of Commerce through the National Institute of Standards and Technology's Baldrige Performance Excellence program is creating a new Presidential Award to recognize demonstrated excellence in implementing the Pledge to America's Workers. This program fulfills the requirements of both Executive Orders, each of which called for the creation of programs to recognize excellence in employer training investments. The Department of Commerce will administer the award program, with support from the Department of Labor, on behalf of the National Council for the American Worker.

II. Method of Collection

The application and instructions can be accessed from the Department of Commerce, the National Institute of Standards and Technology, and Department of Labor websites. All applications should be submitted via email to: WorkforcePledgeAward@nist.gov.

III. Data

OMB Control Number: 0690-XXXX.

Form Number(s): None.

Type of Review: New Information Collection.

Affected Public: Businesses or other for-profit organizations.

Estimated Number of Respondents: 100 per year.

Estimated Time per Response: 3 hours 0 minutes.

Estimated Total Annual Burden Hours: 1,000 hours.

Estimated Total Annual Cost to Public: $0.

Respondent's Obligation: Voluntary.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 25, 2020.
Sheleen Dumas,
Department PRA Clearance Officer, Office of the Chief Information Officer, Commerce Department.

[FR Doc. 2020-06597 Filed 3-30-20; 8:45 am]

BILLING CODE 3510-13-P